DEPARTMENT OF TRANSPORTATION

Federal Aviation Administration

Agency Information Collection Activities: Requests for Comments; Clearance of Renewed Approval of Information Collection: Recording of Aircraft Conveyances and Security Documents

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on October 9, 2018. The collection involves return to the Civil Aviation Aircraft Registry of information relating to the release of a lien that has been recorded with the Registry. Regulations provide for establishing and maintaining a system for the recording of security conveyances affecting title to, or interest in U.S. civil aircraft, as well as certain specifically identified engines, propellers, or spare parts locations, and for recording of releases relating to those conveyances. Federal Aviation Regulations establish procedures for implementation. Regulations describe what information must be contained in a security conveyance in order for it to be recorded with FAA. The convention on the International Recognition signatory, prevents, by treaty, the export of an aircraft and cancellation of its nationality marks if there is an outstanding lien recorded. The Civil Aviation Registry must have consent or release of lien from the lienholder prior to confirmation/cancellation for export.

DATES: Written comments should be submitted by January 14, 2019.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0043.

Title: Recording of Aircraft Conveyances and Security Documents.

Form Numbers: None.

Type of Review: Renewal of an information collection.

Background: The Federal Register Notice with a 60-day comment period soliciting comments on the following collection of information was published on October 9, 2018 (83 FR 50740). Since the single form (AC Form 8050-41, Notice of Recordation) of the collection is sent to the lienholder when the Registry records the lien on aircraft, propeller(s), engine(s) and/or spare parts location(s) as a part of another collection this form is now removed. When the lien is satisfied, the lienholder completes part II of the form AC Form 8050-41 and returns it to the Registry as official notification of the release of the lien. The lienholder may send the same information in any format without the form if desired. The collection involves return to the Civil Aviation Aircraft Registry of information relating to the release of a lien that has been recorded with the Registry. Title 49, U.S.C. Section 44108 provides for establishing and maintaining a system for the recording of security conveyances affecting title to, or interest in U.S. civil aircraft, as well as certain specifically identified engines, propellers, or spare parts locations, and for recording of releases relating to those conveyances. Federal Aviation Regulations part 49 (14 CFR 49) establishes procedures for implementation of 49 U.S.C. 44108. Part 49 describes what information must be contained in a security conveyance in order for it to be recorded with FAA.

Respondents: Any aircraft, propeller or engine lienholder, who has received the Notice of Recordation from the Registry, who is releasing the subject lien.

Frequency: On occasion.

Estimated Average Burden per Response: 1 hour.

Estimated Total Annual Burden: For FY 2017, records indicate a return of 23,681 release notifications for a total time burden of approximately 23,681 hours.

Issued in Washington, DC, on December 10, 2018.
Barbara Hall,
FAA Information Collection Clearance Officer, Performance, Policy, and Records Management Branch, ASP-110.

[FR Doc. 2018-27054 Filed 12-13-18; 8:45 am]

BILLING CODE 4910-13-P